DEPARTMENT OF STATE

[Public Notice 8034]

International Joint Commission Invites Public Comment on Upper Great Lakes Report via Teleconference and Extends Public Comment Period

The International Joint Commission (IJC) announced that it is holding a teleconference to invite public comment on the final report of its International Upper Great Lakes Study Board, Lake Superior Regulation: Addressing Uncertainty in Upper Great Lakes Water Levels.

The teleconference will be held at 7 p.m. (EDT) on September 19, 2012 and will provide an opportunity to be heard for those who were not able to attend one of the 13 public hearings that the IJC conducted in upper Great Lakes communities during July 2012. The deadline for comments has also been extended to September 30, 2012.

The Study examines whether the regulation of outflows from Lake Superior through the compensating works and power dams on the St. Marys River at Sault Ste. Marie might be improved to take into consideration the evolving needs of users on Lakes Superior, Huron, Michigan and Erie. The Commission is considering proposed changes to its Orders of Approval for the outflows of Lake Superior at the St. Marys River that have been recommended by the Study. The Study report also examines the potential future impacts of climate change, a management strategy to better anticipate and respond to future extreme water levels, the feasibility and implications of restoring water levels in lakes Michigan-Huron and multi-lake regulation and its impacts throughout the Great Lakes-St. Lawrence system. The study report and a presentation on the study findings, as well as the supporting documents and peer review are available online at the following Web site: http://www.iugls.org.

Participants may join the teleconference on either of the following lines and are encouraged to dial in 10 minutes before the 7 p.m. (EDT) start time:

• English speaking line: Telephone 877-413-4814, PIN 7297456

• French speaking line: Telephone 877-413-4814, PIN 2641187

Written comments may also be submitted to the IJC for receipt by September 30, 2012 via the Upper Great Lakes Public Hearings Web site http://www.ijc.org/iuglsreport/ or to either address below:

U.S. Section Secretary, International Joint Commission, 2000 L Street NW., Suite 615, Washington, DC 20440, Fax: 202-632-2006, commission@washington.ijc.org.

Canadian Section Secretary, International Joint Commission, 234 Laurier Avenue West, 22nd Floor, Ottawa, ON K1P 6K6, Fax: 613-993-5583, commission@ottawa.ijc.org.

The International Joint Commission was established under the Boundary Waters Treaty of 1909 to help the United States and Canada prevent and resolve disputes over the use of the waters the two countries share. Its responsibilities include considering applications for projects that affect the natural levels and flows of boundary waters. For more information, visit the Commission's Web site at www.ijc.org.

Dated: September 13, 2012.
Charles A. Lawson,
Secretary, U.S. Section, International Joint Commission, Department of State.

[FR Doc. 2012-23116 Filed 9-18-12; 8:45 am]

BILLING CODE 4710-14-P